DEPARTMENT OF THE INTERIOR

Bureau of Land Management

[CACA-052537, LLCAD05000, L51010000.FX0000, LVRWB11B4520]

Notice of Availability of the Alta East Wind Project Draft Environmental Impact Statement/Environmental Impact Report and Proposed California Desert Conservation Area Plan Amendment, Kern County, CA

AGENCY: Bureau of Land Management, Interior.

ACTION: Notice of availability.

SUMMARY: In accordance with the National Environmental Policy Act of 1969, as amended, and the Federal Land Policy and Management Act of 1976, as amended (FLPMA), the Bureau of Land Management (BLM) and Kern County, California, have prepared a Draft Environmental Impact Statement (EIS)/Environmental Impact Report (EIR) and a Draft California Desert Conservation Area (CDCA) Plan Amendment (PA) for the Alta East Wind Project (AEWP), and by this notice the BLM is announcing the opening of the comment period.

DATES: To ensure that comments will be considered, the BLM must receive written comments on the Draft EIS/EIR/PA within 90 days following the date the Environmental Protection Agency publishes its Notice of Availability in the Federal Register. The BLM will announce future meetings or hearings and any other public involvement activities at least 15 days in advance through public notices, media releases, and/or mailings.

ADDRESSES: You may submit comments related to the AEWP by any of the following methods:

• Web site: http://www.blm.gov/ca/st/en/fo/ridgecrest/alta_east_wind_project.html.

• Email: altaeast@blm.gov.

• Fax: 951 697-5299.

• Mail: ATTN: Jeffery Childers, Project Manager, BLM California Desert District Office, 22835 Calle San Juan de Los Lagos, Moreno Valley, California 92553-9046.

Copies of the Draft EIS/EIR/PA are available in the California Desert District Office at the above address, in the BLM Ridgecrest Field Office, 300 S. Richmond Road, Ridgecrest, California 93555, and on the BLM Web site: http://www.blm.gov/ca/st/en/fo/cdd.html.

FOR FURTHER INFORMATION CONTACT: For further information and/or to have your name added to our mailing list, contact Jeffery Childers, telephone 951 697-5308; address BLM California Desert District Office, 22835 Calle San Juan de Los Lagos, Moreno Valley, California 92553-9046; email jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Alta Windpower Development, LLC (AWD) has requested a right-of-way (ROW) authorization to construct, operate, maintain, and decommission the AEWP. The Project would be located on about 3,200 acres on the north and south sides of State Route 58 in southeastern Kern County, California. The project area is approximately 3 miles northwest of the town of Mojave and approximately 11 miles east of the city of Tehachapi. The proposed project would include up to 106 wind turbines, access roads, energy collection lines, and ancillary facilities on 3,200 acres, of which 2,083 acres are on public land under the jurisdiction of the BLM and 1,117 acres are on private land under the jurisdiction of Kern County. The Project could produce up to 318 Megawatts (mW).

The BLM's purpose and need for the AEWP is to respond to AWD's application for a ROW grant to construct, operate, maintain, and decommission a wind energy facility on public lands in compliance with FLPMA, BLM ROW regulations, and other applicable Federal laws. The BLM will decide whether to grant, grant with modification, or deny a ROW to AWD for the proposed AEWP. The BLM is also proposing to amend the CDCA Plan by designating the project area as either available or unavailable for wind energy projects. The CDCA Plan (1980, as amended), while recognizing the potential compatibility of wind energy generation facilities with other uses on public lands, requires that all sites proposed for power generation or transmission not already identified in the Plan be considered through the plan amendment process. If the BLM decides to grant a ROW for this project, the CDCA Plan would be amended as required.

In addition to the proposed action and a no action alternative, the BLM is analyzing a reconfigured site layout alternative with up to 106 turbines, an alternative that would allow up to 97 turbines, and an alternative that would allow up to 87 turbines. The Draft EIS/EIR/PA also analyzes two no-project alternatives that would deny a ROW for the project but amend the CDCA Plan to find the project area either (1) available for future wind energy generation projects; or (2) unavailable for future wind energy generation projects.

The Draft EIS/EIR/PA evaluates the potential impacts of the proposed AEWP on air quality and greenhouse gas emissions, biological resources including Golden Eagles and California Condors, special status species, cultural resources, geology and soils, hazards and hazardous materials, hydrology and water quality, land use, noise, recreation, traffic, visual resources, wilderness characteristics, cumulative effects, and areas with high potential for renewable energy development.

A Notice of Intent to Prepare an EIS/EIR/PA for the AEWP was published in the Federal Register on July 15, 2011 (FR 41817-41819). The BLM held one joint public scoping meeting with Kern County in Mojave on August 4, 2011. The formal scoping period ended on August 16, 2011.

Please note that public comments and information submitted including names, street addresses, and email addresses of persons who submit comments will be available for public review at the above address during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Thomas Pogacnik,
Deputy State Director, California.

[FR Doc. 2012-16005 Filed 6-28-12; 8:45 am]

BILLING CODE 4310-40-P